DEPARTMENT OF COMMERCE

National Oceanic and Atmospheric Administration

RIN 0648-XB069

Endangered and Threatened Species; Notice of Intent To Update a Recovery Plan for the Blue Whale and Prepare a Recovery Plan for the North Pacific Right Whale

AGENCY: National Marine Fisheries Service (NMFS), National Oceanic and Atmospheric Administration (NOAA), Commerce.

ACTION: Notice of intent to update and prepare recovery plans; request for information.

SUMMARY: The National Marine Fisheries Service (NMFS) is announcing its intent to update a recovery plan for the blue whale (Balaenoptera musculus) and prepare a recovery plan for the North Pacific right whale (Eubalaena japonica) and requests information from the public. NMFS is required by the Endangered Species Act of 1973 (ESA), as amended to develop plans for the conservation and survival of federally listed species, i.e., recovery plans.

DATES: To allow NMFS adequate time to conduct the reviews, all information must be received no later than May 17, 2012.

ADDRESSES: You may submit comments on these documents, identified by NOAA-NMFS-2012-0091, by any of the following methods:

• Electronic Submission: Submit all electronic public comments via the Federal e-Rulemaking Portal www.regulations.gov. To submit comments via the e-Rulemaking Portal, first click the “submit a comment” icon, then enter NOAA-NMFS-2012-0091 in the keyword search. Locate the document you wish to comment on from the resulting list and click on the “Submit a Comment” icon on the right of that line.

• Mail: Submit written comments to Chief, Endangered Species Division, National Marine Fisheries Service, Office of Protected Resources, 1315 East West Highway, Silver Spring, MD 20910, Attn: Recovery Plans.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Larissa Plants, Office of Protected Resources, 301-427-8471, or Shannon Bettridge, Office of Protected Resources, 301-427-8437.

SUPPLEMENTARY INFORMATION: Management responsibility for blue whales and North Pacific right whales lies with the Secretary of Commerce and has been delegated to NMFS. As such, NMFS is charged with the recovery of blue and North Pacific right whales, which are listed as endangered under the ESA. The recovery planning process is guided by the statutory language of Section 4(f) of the ESA and NMFS policies. Recovery planning identifies all methods and procedures that are necessary to recover any endangered species or threatened species. Section 4(f)(1)(B) of the ESA specifies that recovery plans must incorporate in each plan (i) a description of such site-specific management actions as may be necessary to achieve the plan's goal for the conservation and survival of the species; (ii) objective, measurable criteria which when met, would result in a determination, that the species be removed from the list; and (iii) estimates of the time required and cost to carry out those measures needed to achieve the plan's goal and to achieve intermediate steps toward that goal.

Section 4(f)(4) of the ESA requires that public notice and an opportunity for public review and comment be provided during recovery plan development. NMFS requests relevant information from the public during preparation of the draft Recovery Plans. Such information should address: (a) criteria for removing the these whales from the list of threatened and endangered species; (b) factors that are presently limiting, or threaten to limit, the survival of the blue and North Pacific right whales; (c) actions to address limiting factors and threats; (d) estimates of time and cost to implement recovery actions; and (e) research, monitoring and evaluation needs. Upon completion, the draft Recovery Plans will be available for public review and comment through the publication of a Federal Register Notice.

Authority: 6 U.S.C. 1531 et seq.

Dated: April 10, 2012.
Marta Nammack,
Acting Chief, Endangered Species Division, Office of Protected Resources, National Marine Fisheries Service.

[FR Doc. 2012-9239 Filed 4-16-12; 8:45 am]

BILLING CODE 3510-22-P